DEPARTMENT OF COMMERCE

National Oceanic and Atmospheric Administration

RIN 0648-XG018

Fisheries of the Northeastern United States; Summer Flounder, Scup, and Black Sea Bass Fisheries; Scoping Process

AGENCY: National Marine Fisheries Service (NMFS), National Oceanic and Atmospheric Administration (NOAA), Commerce.

ACTION: Supplemental notice of intent (NOI) to prepare an environmental impact statement (EIS).

SUMMARY: The Mid-Atlantic Fishery Management Council has been preparing an amendment to the Summer Flounder, Scup, and Black Sea Bass Fishery Management Plan, known as the “Comprehensive Summer Flounder Amendment,” to modify aspects of the fishery management plan related to summer flounder commercial and recreational management. To avoid delaying the amendment while waiting for updated recreational information, the Council is now splitting several issues within this original action, including fishery management plan goals and objectives, commercial allocation, commercial moratorium permits, and commercial framework provisions into a separate action that will continue to be developed as an EIS. The Council is taking comments on this modified action, which is now being referred to as the “Summer Flounder Commercial Issues Amendment.” Following completion of this “Commercial Issues” amendment, the Council may then develop at least one future action relating to recreational fishery issues and commercial/recreational allocation to incorporate updated recreational fishery data when it becomes available later this year. The purpose of this notification is to alert and seek comment from the public about the Council's consideration of splitting this amendment, by delaying some issues to be pursued via later actions.

DATES: Written comments must be received on or before April 30, 2018.

ADDRESSES: You may submit comments by any of the following methods:

• Email: nmfs.flukeamendment@noaa.gov; Include “Summer Flounder Amendment Scoping Comments” in the subject line;

• Mail: Christopher M. Moore, Ph.D., Executive Director, Mid-Atlantic Fishery Management Council, 800 N. State Street, Suite 201, Dover, DE 19901.

• Fax: (302) 674-5399.

FOR FURTHER INFORMATION CONTACT: Christopher M. Moore, Ph.D., Executive Director, Mid-Atlantic Fishery Management Council, telephone: (302) 526-5255.

SUPPLEMENTARY INFORMATION: On September 16, 2014, an NOI was published in the Federal Register (79 FR 55432) announcing the Council's intent to prepare an EIS for a broad management action addressing several categories of summer flounder issues in the Summer Flounder, Scup, and Black Sea Bass Fishery Management Plan (FMP). The Council initiated this Comprehensive Summer Flounder Amendment jointly with the Atlantic States Marine Fisheries Commission to review all aspects of the FMP related to summer flounder. The amendment was intended to consider updating the goals and objectives of the FMP as related to summer flounder, revising the allocation between the commercial and recreational sector, and modifying many management strategies and requirements for both commercial and recreational fisheries for summer flounder. Since publication of the original NOI, the Council has delayed development of recreational fishery issues and recreational/commercial allocation and narrowed the remaining range of issues to a more focused list of priority topics.

The primary driver of this proposed split is the ongoing revisions to recreational data by the Marine Recreational Information Program (MRIP), which are expected to substantially change the current understanding of recreational catch and landings. Due to these changes, the Council and Commission chose to delay development of any issues that would rely heavily on recreational data, including quota allocation between the commercial and recreational sectors, as well as recreational management measures and strategies. If this action was not split, the Council and Commission would either need to wait for revised MRIP data to become available to begin analysis of recreational-related alternatives, or begin analysis with the current data and later revise substantial portions of the document once new MRIP data became available. Because substantial progress has been made on development of alternatives for commercial issues, the Council and Commission have proposed splitting the action in order to more quickly complete the revisions to the commercial issues and FMP objectives without letting these issues become delayed by recreational data revisions.

The purpose of this revised amendment is to consider revisions to the current qualification criteria for Federal moratorium permit holders, the current allocation of commercial quota, and the current list of frameworkable items in the FMP (i.e., including a provision for commercial landings flexibility). In addition, the purpose of the action is to revise the FMP goals and objectives for summer flounder only. An EIS will be prepared for this action. The Council believes that the measures have separate utility, a clearly unique purpose and need, and are not directly linked to the remaining measures from the original amendment proposed to be pursued in a future action.

The Council and Commission intend to initiate a separate action or actions once revised MRIP data become available. This future action is expected to consider revisions to the allocation between the commercial and recreational sectors for summer flounder, as well as several recreational fishery issues. General categories of recreational issues previously identified for evaluation include: Recreational process, conservation equivalency framework, and recreational allocations; recreational sector separation (for-hire and/or private mode); alternative recreational strategies (allow for alternatives to minimum size, bag limit, and season restrictions; e.g., slot limits); recreational gear requirements or restrictions; and recreational data collection requirements and protocols.

Authority: 16 U.S.C. 1801 et seq.

Dated: March 23, 2018.
Jennifer M. Wallace,
Acting Director, Office of Sustainable Fisheries, National Marine Fisheries Service.

[FR Doc. 2018-06314 Filed 3-28-18; 8:45 am]

BILLING CODE 3510-22-P